DEPARTMENT OF AGRICULTURE

Submission for OMB Review; Comment Request

April 19, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Business-Cooperative Service

Title: Research on Rural Cooperative Opportunities and Problems.

OMB Control Number: 0570-0028.

Summary of Collection: The Rural Business-Cooperative Service (RBS) was established by Public Law 103-350; the Department of Agriculture Reorganization Act of 1994. The mission of RBS is to improve the quality of life in rural America by financing community facilities and businesses, providing technical assistance and creating effective strategies for rural development. The primary objective of this funding is to encourage research through cooperative agreements on critical issues vital to the development and sustainability of cooperatives as a means of improving the quality of life in America's rural communities. RBS will collect information through research proposals prepared by applicants, who may be public or private colleges or universities, research foundations maintained, by a college or university, or private nonprofit organizations.

Need and Use of the Information: RBS will collect project proposal information from applicants to determine (1) eligibility; (2) the specific purpose for which the funds will be utilized; (3) time frames or dates by which activities surrounding the use of funds will be accomplished; (4) feasibility of the project; (5) applicants' experience in managing similar activities; and (6) the effectiveness and innovation used to address critical issues vital to the development and sustainability of cooperatives as a means of improving the quality of life in America's rural communities. Without the collection of information, there would be no basis on which to award funds or monitor project progress.

Description of Respondents: Not-for-profit institutions.

Number of Respondents: 50.

Frequency of Responses: Recordkeeping; Reporting: On occasion; Quarterly.

Total Burden Hours: 1,140.

Foreign Agricultural Service

Title: Market Access Program.

OMB Control Number: 0551-0027.

Summary of Collection: The Market Access Program (MAP) is authorized by section 203 of the Agricultural Trade Act of 1978, as amended. The primary objective of the MAP is to encourage the development, maintenance and expansion of commercial export markets for U.S. agricultural products through cost-share assistance to eligible trade organizations that implement a foreign market development program. Personnel of the Foreign Agricultural Service (FAS) administer the MAP. Prior to initiating program activities, participants must submit detailed applications to FAS, which include country strategies, constraints, goals, and benchmarks, proposed activities, estimated budgets, and performance measurements.

Need and Use of the Information: FAS will collect information to manage, plan, evaluate, and account for government resources. The information will be used for the allocation of funds, program management, planning and evaluation. If information is not available which provides evidence taxpayer funds are being disbursed in accordance with authorizing legislation, ethical standards, and standard Government rules and regulations, regulatory offices such as the General Accounting Office (GAO) or the Office of the Inspector General (OIG) would likely recommend terminating the program.

Description of Respondents: Not-for-profit institutions; Business or other for-profit; State, Local or Tribal Government.

Number of Respondents: 70.

Frequency of Responses: Recordkeeping; Reporting Annually.

Total Burden Hours: 62,830.

Rural Utilities Service

Title: 7 CFR 1717 Subpart Y, Settlement of Debt Owed by Electric Borrowers.

OMB Control Number: 0572-0116.

Summary of Collection: The Rural Utilities Service (RUS) makes mortgage loans and loan guarantees to electric systems to provide and improve electric service in rural areas pursuant to the Rural Electrification Act of 1936, as amended (7 U.S.C. 901 et seq.) (RE Act). The Rural Utilities Service makes mortgage loans and loan guarantees to electric systems to provide and improve electric service in rural areas. Only those electric borrowers that are unable to fully repay their debts to the government and who apply to RUS for relief will be affected by this collection of information. The information collected will be similar to that which any prudent lender would require to determine whether debt settlement is required and the amount of relief that is needed.

Need and Use of the Information: RUS will collect information to determine the need for debt settlement; the amount of debt the borrower can repay; the future scheduling of debt repayment; and, the range of opportunities for enhancing the amount of debt that can be recovered.

Description of Respondents: Not-for-profit institutions; Business or other for-profit.

Number of Respondents: 1.

Frequency of Responses: Reporting: On occasion.

Total Burden Hours: 3,000.

Rural Utilities Service

Title: Inventory of Work Orders.

OMB Control Number: 0572-0019.

Summary of Collection: The Rural Utilities Service (RUS) is a credit agency of the U.S. Department of Agriculture (USDA). It makes mortgage loans and loan guarantees to finance electric, telecommunications, and water and waste facilities in rural areas. RUS manages loan programs in accordance with the Rural Electrification Act (RE Act) of 1936, 7 U.S.C. 901 et seq., as amended and as prescribed by the Office of Management and Budget (OMB) Circular A-129, Policies for Federal Credit Programs and Non-Tax Receivables, which states that agencies must, based on a review of a loan application, determine that an applicant complies with statutory, regulatory, and administrative eligibility requirements for loan assistance. RUS Form 219, Inventory of Work Orders, is one of the documents the borrower submits to RUS to support actual expenditures and an advance of loan funds.

Need and Use of the Information: RUS will collect information to monitor the activities of the borrower to ensure that funds are being used for RUS purposes. If the information were not collected, RUS would be unable to determine whether borrowers were appropriating loan funds for the purposes specified at the inception of he loan contract.

Description of Respondents: Not-for-profit institutions; Business or other for-profit.

Number of Respondents: 750.

Frequency of Responses: Reporting: On occasion.

Total Burden Hours: 10,125.

Rural Housing Service

Title: 7 CFR 1942-A, Community Facility Loans.

OMB Control Number: 0575-0015.

Summary of Collection: The Rural Housing Service (RUS) is a credit agency within the Rural Development mission area of the U.S. Department of Agriculture (USDA). The Community Programs Division of the RHS administers the Community Facilities program under 7 CFR part 1942, subpart A. Rural Development provides loan and grant funds through the Community Facilities program to finance many types of projects varying in size and complexity, from large general hospitals to small fire trucks. The facilities financed are designed to promote the development of rural communities by providing the infrastructure necessary to attract residents and rural jobs. RUS will collect information using several forms.

Need and Use of the Information: RUS will collect information to determine applicant/borrower eligibility, project feasibility, and to ensure borrowers operate on a sound basis and use loan and grant funds for authorized purposes. Failure to collect proper information could result in improper determinations of eligibility, improper use of funds, and/or unsound loans.

Description of Respondents: Not-for-profit institutions; Business or other for-profit; State, Local or Tribal Government.

Number of Respondents: 3,020.

Frequency of Responses: Recordkeeping; Reporting: On occasion; Annually.

Total Burden Hours: 61,076.

William McAndrew,
Departmental Clearance Officer.

[FR Doc. 00-10139 Filed 4-21-00; 8:45 am]

BILLING CODE 3410-01-M